DEPARTMENT OF COMMERCE

National Oceanic and Atmospheric Administration

Notice of Availability for a Finding of No Significant Impact and Environmental Assessment for Potential Slant Test Well Project in the Monterey Bay National Marine Sanctuary

AGENCY: Monterey Bay National Marine Sanctuary (MBNMS), Office of National Marine Sanctuaries (ONMS), National Ocean Service (NOS), National Oceanic and Atmospheric Administration (NOAA), Department of Commerce (DOC).

ACTION: Notice of availability for final environmental assessment and finding of no significant impact.

SUMMARY: Monterey Bay National Marine Sanctuary (MBNMS), which is part of the Office of National Marine Sanctuaries (ONMS), National Ocean Service (NOS), National Oceanic and Atmospheric Administration (NOAA), has finalized an Environmental Assessment (EA) which analyzed the potential impacts of a slant test well project proposed by California American Water, a privately-owned water and wastewater company, and prepared a Finding of No Significant Impact (FONSI) to the environmental resources within MBNMS and adjacent shoreline areas. The proposed project described in the EA has been evaluated for consistency with the National Marine Sanctuaries Act (16 U.S.C. 1431 et seq.), sanctuary goals and objectives, and ONMS and MBNMS permitting regulations. The environmental impacts of the permitted action are described in the EA, pursuant to the National Environmental Policy Act (42 U.S.C. 4321 et seq.) and related implementing regulations. The final EA and FONSI are available for download on the MBNMS Web site at: http://montereybay.noaa.gov/new/welcome.html#calam.

ADDRESSES: You may review these documents, identifying #NOAA-NOS-2014-0078, at www.regulations.gov.

FOR FURTHER INFORMATION CONTACT: Bridget Hoover, Water Quality Protection Program Director, Monterey Bay National Marine Sanctuary, 99 Pacific Street, Building 455a, Monterey, CA 93940. Phone: (831) 647-4217.

SUPPLEMENTARY INFORMATION: California American Water proposes development and temporary operation of a slant test well to obtain information regarding the geologic, hydrogeologic, and water quality characteristics of the underlying aquifers. MBNMS proposes to authorize two state agency permits or other approvals that would allow development of California American Water's proposed slant test well project. The data obtained during the 24-month testing and monitoring phase would be used to facilitate the planning and final design of a proposed subsurface slant well intake system and desalination plant to serve as the primary future water supply source of the Monterey Peninsula. The slant test well would be drilled in the coastal foredune area of an existing CEMEX sand mining facility in the central coast of California, and would extend diagonally under the floor of the Pacific Ocean into the submerged lands of MBNMS. The slant test well would pump up to 2,500 gallons per minute from the underlying aquifers for a 24-month operational testing and monitoring period. The pumped water, consisting of untreated, tidally-influenced groundwater, would be discharged into MBNMS via an existing ocean outfall pipeline extending approximately 2 miles offshore. The project includes the development of up to four clusters of monitoring wells to evaluate the hydrogeologic response to pumping activities. Upon completion of the testing and monitoring activities, the slant test well and all appurtenant facilities would be decommissioned, excavated, and removed, and the site restored to its original condition.

The project requires authorization of a state permit from MBNMS for the proposed discharge into MBNMS waters and proposed drilling activities in the submerged lands of MBNMS. The proposed project described in the EA has been evaluated for consistency with the National Marine Sanctuaries Act (16 U.S.C. 1431 et seq.), sanctuary goals and objectives, and ONMS and MBNMS permitting regulations. The environmental impacts of the permitted action are described in the EA, pursuant to the National Environmental Policy Act (42 U.S.C. 4321 et seq.) and related implementing regulations. Under the National Environmental Policy Act, a draft EA was completed by MBNMS and public comments were received for a period of 30 days between June 25, 2014 and July 25, 2014. Following public comment, the EA was finalized and a FONSI was prepared in October 2014. The public comments received can be found in the Appendix of the EA. The final EA and FONSI are available for download on the MBNMS Web site at: http://montereybay.noaa.gov/new/welcome.html#calam.

Dated: November 7, 2014.
Daniel J. Basta,
Director, Office of National Marine Sanctuaries.

[FR Doc. 2014-27138 Filed 11-13-14; 8:45 am]

BILLING CODE 3510-NK-P